DEPARTMENT OF ENERGY

Federal Energy Regulatory Commission

[Docket No. ER00-2268-012, et al.]

Pinnacle West Capital Corporation, et al.; Electric Rate and Corporate Filings

April 25, 2005.

The following filings have been made with the Commission. The filings are listed in ascending order within each docket classification.

1. Pinnacle West Capital Corporation; Arizona Public Service Company; Pinnacle West Energy Corporation; APS Energy Services Company, Inc.; GenWest, LLC

[Docket Nos. ER00-2268-012, ER99-4124-010, ER00-3312-011, ER99-4122-013, ER03-352-003]

Take notice that on April 20, 2005, Pinnacle West Capital Corporation, Arizona Public Service Company, Pinnacle West Energy Corporation and APS Energy Services Company, Inc. (collectively the Pinnacle West Companies), and GenWest LLC filed a notice of change in status and revised tariff sheets pursuant to the Commission's Order No. 652 issued February 10, 2005 in Docket No. RM04-14-000, Reporting Requirement for Changes in Status for Public Utilities With Market-Based Rate Authority, 110 FERC ¶ 61,097 (2005).

Comment Date: 5 p.m. Eastern Time on May 5, 2005.

2. Pinnacle West Capital Corporation; Arizona Public Service Company; Pinnacle West Energy Corporation; APS Energy Services Company, Inc.; Arizona Public Service Company, et al.

[Docket Nos. ER00-2268-013, EL05-10-000, ER99-4124-011, EL05-11-000, ER00-3312-012, EL05-12-000, ER99-4122-014, EL05-13-000, EC05-20-000]

Take notice that on April 22, 2005, Pinnacle West Capital Corporation, Arizona Public Service Company, Pinnacle West Energy Corporation, and APS Energy Services Company, Inc. filed a response to a deficiency letter issued April 5, 2005 in the dockets noted above.

Comment Date: 5 p.m. Eastern Time on May 5, 2005.

3. Mirant Americas Energy Marketing, LP; Mirant California, LLC; Mirant Delta, LLC; Mirant Potrero, LLC; Mirant New England, LLC; Mirant Canal, LLC; Mirant Kendall, LLC; Mirant Bowline, LLC; Mirant Lovett, LLC; Mirant NY-Gen, LLC; Mirant Chalk Point, LLC; Mirant Mid-Atlantic, LLC; Mirant Peaker, LLC; Mirant Potomac River, LLC; Mirant Zeeland, LLC; West Georgia Generating Company, LLC; Mirant Sugar Creek, LLC; Shady Hills Power Company, LLC; Wrightsville Power Facility, LLC; Mirant Energy Trading, LLC; Mirant Oregon, LLC; Mirant Las Vegas, LLC

[Docket Nos. ER01-1265-005, ER01-1267-006, ER01-1270-006, ER01-1278-006, ER01-1274-006, ER01-1268-006, ER01-1271-006, ER01-1266-005, ER01-1272-005, ER01-1275-005, ER01-1269-005, ER01-1273-005, ER01-1276-005, ER01-1277-005, ER01-1263-005, ER02-1052-004, ER02-900-004, ER02-537-005, ER02-1028-004, ER02-1213-004, ER02-1331-006, ER03-160-004]

Take notice that on April 19, 2005, the above-referenced entities, collectively the Mirant Entities, tendered for filing a response to a deficiency letter issued by Director, Division of Tariffs and Market Development—South concerning the Mirant Entities updated market power analysis submitted on November 9, 2004.

Comment Date: 5 p.m. Eastern Time on May 10, 2005.

4. Powerex Corp.

[Docket No. ER01-48-004]

Take notice that on April 20, 2005, Powerex Corp. (Powerex) submitted its Notice of Change in Status with respect to events that have taken place since the Commission approved Powerex's most recent market power analysis. In addition, Powerex states that it submitted First Revised Sheet No. 5 and Original Sheet No. 6 to its Second Revised Rate Schedule No. 1 to incorporate the change in status reporting requirements announced by the Commission in Order No. 652, Reporting Requirements for Changes in Status for Public Utilities With Market-Based Rate Authority, Docket No. RM04-14, issued February 10, 2005, 110 FERC ¶ 61,097 (2005).

Powerex states that copies of the filing were served upon the official service list compiled by the Secretary in this proceeding.

Comment Date: 5 p.m. Eastern Time on May 11, 2005.

5. GWF Energy LLC

[Docket No. ER01-2233-004]

Take notice that, on April 21, 2005, GWF Energy LLC submitted revisions to its market-based tariff in compliance with the Commission's order issued March 25, 2005 in Docket Nos. ER01-2233-002 and ER01-2233-003, GWF Energy LLC, 110 FERC ¶ 61,352 to incorporate the change in status reporting requirement adopted by the Commission in Order No. 652 issued February 10, 2005 in Docket No. RM04-14-000, Reporting Requirement for Changes in Status for Public Utilities With Market-Based Rate Authority, 70 FR 8253 (Feb. 18, 2005), FERC Stats. & Regs., Regulations Preambles ¶ 31,175 (2005).

GWF Energy LLC states that copies of the filing were served on parties on the official service list in the above-captioned proceeding.

Comment Date: 5 p.m. Eastern Time on May 12, 2005.

6. Oregon Electric Utility Company, Portland General Electric Company, Portland General Term Power Procurement Company

[Docket Nos. ER04-1206-000, ER04-1206-001, ER04-1206-002]

Take notice that on April 8, 2005, Oregon Electric Utility Company, Portland General Electric Company and Portland General Term Power Procurement Company filed a withdrawal of the September 8, 2004, September 29, 2004 and January 21, 2005 filings in the above-referenced Docket Numbers.

Comment Date: 5 p.m. Eastern Time on May 5, 2005.

7. Midwest Independent Transmission System Operator, Inc.; Midwest Independent Transmission System Operator, Inc. and PJM Interconnection, LLC, et al.; Midwest Independent Transmission System Operator, Inc. and PJM Interconnection, LLC, et al.; Ameren Services Company, et al.

[Docket Nos. ER05-6-018, EL04-135-020, EL02-111-038, EL03-212-34]

Take notice that on April 20, 2005, as amended on April 22, 2005, American Electric Power Service Corporation (on behalf of Appalachian Power Company, Columbus Southern Power Company, Indiana Michigan Power Company, Kentucky Power Company, Kingsport Power Company, Ohio Power Company and Wheeling Power Company), Commonwealth Edison Company and Commonwealth Edison Company of Indiana, Inc., Dayton Power and Light Company and Duquesne Light Company (collectively Companies) submitted for filing revisions to reflect corrections to errors in Attachments X and R of the PJM Interconnection, L.L.C.'s open access transmission tariff, effective April 1, 2005. Companies state that this filing is also being made on behalf of the PJM and PJM West Transmission Owners Agreement Administrative Committees. The Companies request an effective date of April 1, 2005.

The Companies state that a copy of this filing has been served on the official service lists in these proceedings.

Comment Date: 5 p.m. Eastern Time on May 11, 2005.

8. Milford Power Company, LLC

[Docket No. ER05-163-003]

Take notice that, on April 21, 2005, Milford Power Company, LLC (Milford) submitted a compliance filing pursuant to the Commission's order issued March 22, 2005, in Docket No. ER05-163-000, Milford Power Company, LLC, 110 FERC ¶ 61,299.

Milford states that copies of the filing were served on parties on the official service list in the above-captioned proceeding.

Comment Date: 5 p.m. Eastern Time on May 12, 2005.

9. Sempra Generation

[Docket No. ER05-440-002]

Take notice that on April 20, 2005, Sempra Generation (formerly, Sempra Energy Resources) submitted revised tariff sheets in compliance with the Commission's March 25, 2005 order, 110 FERC ¶ 61,344, to incorporate the language required by Order No. 652 pertaining to notices of changes in status.

Comment Date: 5 p.m. Eastern Time on May 11, 2005.

10. Mendota Hills LLC

[Docket No. ER05-463-001]

Take notice that on April 21, 2005, Mendota Hills LLC submitted a refund report in compliance with the order issued by the Commission on March 3, 2005 in Docket No. ER05-463-000.

Mendota Hills LLC states that copies of the filing were served on parties on the official service list in this proceeding.

Comment Date: 5 p.m. Eastern Time on May 12, 2005.

11. Midwest Independent Transmission System Operator, Inc.

[Docket No. ER05-636-001]

Take notice that on April 20, 2005, the Midwest Independent Transmission System Operator, Inc. (Midwest ISO) amended its February 23, 2005 filing in Docket No. ER05-636-000 to provide an exhibit.

Midwest ISO states that a copy of this filing was served on all parties on the service list maintained by the Secretary in this proceeding.

Comment Date: 5 p.m. Eastern Time on May 11, 2005.

12. NorthWestern Energy

[Docket No. ER05-691-001]

Take notice that on April 21, 2005, NorthWestern Energy submitted a revised cover letter to its March 10, 2005 filing to correct a typographical error with regard to the proposed effective date of an executed Generation Interconnection Agreement between NorthWestern Energy (Montana) and Exergy Development Group, LLC. The proposed effective date is April 10, 2005.

Comment Date: 5 p.m. Eastern Time on May 9, 2005.

13. Yoakum Electric Generating Cooperative, Inc.

[Docket No. ER05-739-001]

Take notice that on April 20, 2005 Yoakum Electric Generating Cooperative, Inc., (Yoakum) submitted for filing a corrected market-based rate tariff to correct a pagination error in its March 29, 2005 filing. Yoakum states that the corrected market-based rate tariff also incorporates the change in status reporting requirements adopted by the Commission in Order No. 652.

Comment Date: 5 p.m. Eastern Time on May 11, 2005.

14. New England Power Company

[Docket No. ER05-835-001]

Take notice that on April 20, 2005, New England Power Company (NEP) submitted an amendment to its April 18, 2005 filing of two local service agreements for local network service with Bear Swamp Power Co., LLC (Bear Swamp Power), under ISO New England Inc.'s Transmission, Markets and Services Tariff (ISO New England Inc., FERC Electric Tariff No. 3).

NEP states that a copy of this filing has been served upon Bear Swamp Power, ISO New England Inc., and regulators in the Commonwealth of Massachusetts.

Comment Date: 5 p.m. Eastern Time on May 11, 2005.

15. Pacific Gas and Electric Company

[Docket No. ER05-844-000]

Take notice that on April 20, 2005, Pacific Gas and Electric Company (PG&E) submitted a filing revising its transmission owner tariff to recover costs associated with the California Independent System Operator Corporation's CAISO's self-supply of station power initiative.

PG&E states that copies of this filing have been served upon the CAISO and the California Public Utilities Commission.

Comment Date: 5 p.m. Eastern Time on May 11, 2005.

16. North Jersey Energy Associates, L.P.

[Docket No. ER05-845-000]

Take notice that on April 20, 2005, North Jersey Energy Associates, L.P. (NJEA) submitted its rate schedule and supporting cost data for a proposed reactive support and voltage control from generation sources service for its cogeneration facility located in Sayreville, New Jersey. NJEA requests an effective date of June 1, 2005.

Comment Date: 5 p.m. Eastern Time on May 11, 2005.

17. MidAmerican Energy Company

[Docket No. ER05-846-000]

Take notice that on April 20, 2005, MidAmerican Energy Company (MidAmerican), submits for filing a network integration transmission service agreement and a network operating agreement between MidAmerican Energy Company and the Eldridge Electric and Water Utilities (Eldridge). MidAmerican requests an effective date of May 1, 2005.

MidAmerican states that it has served a copy of the filing on Eldridge, the Iowa Utilities Board, the Illinois Commerce Commission and the South Dakota Public Utilities Commission.

Comment Date: 5 p.m. Eastern Time on May 11, 2005.

18. Central Vermont Public Service Corporation, Green Mountain Power Corporation

[Docket No. ER05-847-000]

Take notice that on April 20, 2005, Central Vermont Public Service Corporation (Central Vermont) and Green Mountain Power Corporation (Green Mountain) (collectively, the Companies), jointly tendered for filing a revised transmission service agreement between Central Vermont and Green Mountain to change references in the formula rate to the local service schedule of each Company in the ISO New England, Inc. Transmission, Markets and Service Tariff. The Companies state that the transmission service agreement has been designated as Central Vermont's First Revised Rate Schedule No. 188 and Green Mountain's First Revised Rate Schedule 132. The Companies request an effective date of February 1, 2005.

The Companies state that copies of the filing were served upon the Vermont Public Service Board.

Comment Date: 5 p.m. Eastern Time on May 11, 2005.

19. ISO New England Inc. and New England Power Company

[Docket No. ER05-848-000]

Take notice that on April 21, 2005, ISO New England Inc. (ISO-NE) and New England Power Company (NEP) (collectively, the Filing Parties), submitted an executed service agreement for a large generator interconnection (Agreement) with Ridgewood Power Management, LLC. The Filing Parties state that the Agreement has been designated as a service agreement under ISO-NE's Open Access Transmission Tariff (Section II of the ISO-NE Transmission, Markets and Services Tariff, FERC Electric Tariff No. 3). The Filing Parties state that the Agreement concerns the interconnection of Ridgewood Rhode Island Generation, Phase 2, a six (6) MW generating facility.

ISO-NE states that paper copies of said filing have been served on New England Power Company and Ridgewood Power Management, LLC and have been sent to the New England state governors and regulatory agencies, and electronic copies were sent to the ISO's Governance Participants.

Comment Date: 5 p.m. Eastern Time on May 12, 2005.

20. Delta Energy Center, LLC

[Docket No. ER05-854-000]

Take notice that on April 18, 2005, Delta Energy Center, LLC (Delta) submitted a revised rate schedule sheet to Delta Energy Center, LLC Rate Schedule FERC No. 2 for the reliability must-run service agreement between Delta and the California Independent System Operator Corporation to reflect changes to certain generation ranges and the addition of generation ranges related to Ramp Rates. Delta requests an effective date of May 1, 2005.

Delta states that copies of the filing were served upon the official service list for Docket No. ER03-510-000.

Comment Date: 5 p.m. Eastern Time on May 9, 2005.

21. Detroit Edison Company

[Docket No. ES04-10-001]

Take notice that on April 22, 2005, Detroit Edison Company (Detroit Edison) filed an application pursuant to section 204 of the Federal Power Act. The application requests that the Commission amend the authorization to issue senior notes previously granted on January 30, 2004, in Docket No. ES04-10-000, to permit Detroit Edison to issue new debt securities that have been registered with the Securities and Exchange Commission in exchange for an equal principal amount of outstanding debt securities previously issued under the prior authorization.

Detroit Edison also requests a waiver of the Commission's competitive bidding and negotiated placement requirements at 18 CFR 34.2.

Comment Date: 5 p.m. Eastern Time on May 6, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Linda Mitry,
Deputy Secretary.

[FR Doc. E5-2076 Filed 4-29-05; 8:45 am]

BILLING CODE 6717-01-P